DEPARTMENT OF ENERGY

Idaho Operations Office; Emerging Technology Deployment

AGENCY: Idaho Operations Office, DOE.

ACTION: Notice of availability of financial assistance solicitation No. DE-PS07-01ID14181.

SUMMARY: The U.S. Department of Energy (DOE) Idaho Operations Office (ID) is soliciting the submission of proposals for field testing of technologies to reduce energy consumption, enhance economic competitiveness, and reduce environmental impacts, specifically in the Industries of the Future (IOF) industrial sectors. The objective of the solicitation is to find ways to mitigate the risk to industries of accepting and using emerging technologies developed by the IOF program. It is not the intent of DOE-ID to solicit research and development projects. At least a 50% cost share will be required.

This solicitation is commissioned on behalf of the DOE's Office of Industrial Technology (OIT) BestPractices Program, which has been established to provide integrated delivery of energy-saving products, services, and technologies to the nine IOF sectors. Additional information about the BestPractices Program can be found on the website (http://www.oit.doe.gov/bestpractices). The IOF industry-specific vision documents and technology roadmaps are available at http://www.oit.doe.gov/ under individual IOF program areas.

DATES: The deadline for receipt of applications is October 19, 2001. Awards are expected to be made on or about January 15, 2002.

ADDRESSES: The solicitation in its full text is available on the Internet at the following URL address: http://e-center.doe.gov. All applications must be submitted through the DOE e-center site.

FOR FURTHER INFORMATION CONTACT: T. Wade Hillebrant, Contract Specialist, hillebtw@id.doe gov.

SUPPLEMENTARY INFORMATION: The statutory authority for the program is the Federal Non-Nuclear Energy Research and Development Act of 1974 (P.L. 93-577). The Catalog of Federal Domestic Assistance (CFDA) Number for this program is 81.086.

Issued in Idaho Falls on July 24, 2001.
R.J. Hoyles,
Director, Procurement Services Division.

[FR Doc. 01-19576 Filed 8-3-01; 8:45 am]

BILLING CODE 6450-01-P